DEPARTMENT OF LABOR

Employment and Training Administration

[TA-W-40,476]

A.S. Haight & Company, Inc. Cartersville, GA; Notice of Termination of Investigation

Pursuant to section 221 of the Trade Act of 1974, an investigation was initiated on December 21, 2001, in response to a worker petition which was field by the UNITE! Southern Regional Joint Board, Local 308, on behalf of workers at Haight & Company, Inc., Cartersville, Georgia.

The petitioning group of workers are subject to an ongoing investigation for which a determination has not yet been issued (TA-W-40,392). Consequently, further investigation in this case would serve no purpose, and the investigation has been terminated.

Signed at Washington, DC, this 12th day of April, 2002.
Linda G. Poole,
Certifying Officer, Division of Trade Adjustment Assistance.

[FR Doc. 02-10050 Filed 4-23-02; 8:45 am]

BILLING CODE 4510-30-M